DEPARTMENT OF TRANSPORTATION

Federal Motor Carrier Safety Administration

Qualification of Drivers; Exemption Applications; Vision

AGENCY: Federal Motor Carrier Safety Administration (FMCSA), DOT.

ACTION: Notice of denials.

SUMMARY: FMCSA announces its denial of 107 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to or greater than the level of safety maintained without the exemptions for these commercial motor vehicle (CMV) drivers.

FOR FURTHER INFORMATION CONTACT: Elaine M. Papp, Chief, Medical Programs, (202) 366-4001, U.S. Department of Transportation, FMCSA, 1200 New Jersey Avenue SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to, or greater than, the level that would be achieved absent such an exemption.” The procedures for requesting an exemption are set forth in 49 CFR part 381.

Accordingly, FMCSA evaluated 107 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 9 applicants lacked sufficient driving experience during the 3-year period prior to the date of their applications:

Mark Seyler

Dwight H. Pease

John F. Monette

Dennis Joe Crandall

Sergio Alvarez Ruiz

Keith Raymond Hughes

Timothy T. Stapleton

Andrew Fletcher Hill

Larry Periman

The following 9 applicants had no experience operating a CMV:

William J. Smith

Drew Buss

A.D. Alexander

Joshua Wayne Crosby

Samuel Brown, Jr.

James Norbert Fisher

Adewale A. Haastrup

David G. Thoroughn

Daniel Ramse

One applicant, William Kraemer, did not have 3 years of experience driving a CMV on public highways with the vision deficiency:

The following 18 applicants did not have 3 years of recent experience driving a CMV with the vision deficiency:

Norman Donald Hursey

Timothy Allen Easter, Sr.

James Muldoon

Jeffrey Roughton

John E. Humphery

Douglas Claxton

James Roscoe Brittain III

Jerry M. Puckett

Larry Dexter

Georgia Marcum

John Darr

Kevin Menard

Christopher Jax

Charles Ray Brittain

Kevin Robert Cowger

Clifford Blaine Thompson

Timothy Garland

Kevin Barker

The following 14 applicants did not have sufficient driving experience during the past 3 years under normal highway operating conditions:

Jose P. Martinez

Phillip Gene Roberts

Dennis Wayne Vaughn

John Gramling

Larry Ventimiglia

Bret Harold Bulcher

Daniel John Hodges

Douglas Stanley

Steven F. Albro

Nathan W. Sears

Michael Wayne Gilley

William C. Miller

Darrell Prather

James Jaramillo

One applicant, Robert J. Moore, Jr., was charged with moving violation(s) in conjunction with a commercial motor vehicle accident(s). This is a disqualifying offense.

One applicant, Gregory Busche, does not have sufficient peripheral vision in the better eye to qualify for an exemption.

The following applicant, Randy Fielder, had a commercial driver's license suspension during the 3-year review period for moving violations. Applicants do not qualify for an exemption with a suspension during the 3-year period.

The following 2 applicants contributed to accident(s) in which the applicant was operating a commercial motor vehicle. This is a disqualifying offense.

David Lynn Ellis

Mark John Cairns

The following 11 applicants were denied for miscellaneous/multiple reasons:

Mark Don Morrishow

Manuel DeJesus Luna

Frank James Means

Cameron M. Chauvin

Jeffery Wayne Vaughan

James Loyde Meisner

David Wayne Trawick

Robert Fortune

Thomas Keith Wagner

William Kenneth Griffin

Erasmus Okonkwo Odili

The following 2 applicants were denied because their vision was not stable for the entire 3-year period.

Barry Lee Crenshaw

Daniel J. Piechocki

The following 2 applicants were denied because they do not meet the vision standard in the better eye:

William R. Connolly

Jose A. Guevara

One applicant, Roger Doyle, was denied because his CDL was suspended during the 3-year period in relation to an accident. The accident may or may not be related to his medical condition.

The following 4 applicants met the current federal vision standards. Exemptions are not required for applicants who meet the current regulations for vision:

Edward A. Bechtel

Donald Class

Terry Alvin Leffler

Terry Lee Engelhardt

The following 22 applicants were denied because they will not be driving interstate, interstate commerce, or not required to carry a DOT medical card:

Kary Lee Montour

Ryan M. Wagner

Shawn Michael Priess

Carlos R. Gonzalez

Jerard David Menyhart

Danny Michael Harris

Kevin Palmer

Moises P. Ibarra

Jeffery O. Nischwitz

Danny Ray Haner

Orenthal Arnelle Kellam

Larry Lee Dorrance

Lloyd Edward Bean

Michael Young

Raymond Miller

Ruben Armando Gallardo

Paul Anthony Castillo

Warren Vernon Hopper

Jose Marisco

Thomas B. Bliven

Michael Jacson

Larry E. Markowski

Finally, the following 9 applicants perform transportation for the federal government, state, or any political sub-division of the state.

Jimmy Dale Johnson, II

Wesley R. Jackson

Hilliard Whitehead

Mark S. Miller

John Matthew Holder

Gerald E. Thomas, Jr.

Edward Lee Talbert

Debra V. Bryant

Alonzo Bailey

Issued on: October 28, 2011.
Larry W. Minor,
Associate Administrator for Policy.

[FR Doc. 2011-29048 Filed 11-8-11; 8:45 am]

BILLING CODE 4910-EX-P